INTERNATIONAL TRADE COMMISSION

[Investigation No. 337-TA-1002]

Certain Carbon and Alloy Steel Products; Commission Decision Not To Review an Initial Determination Granting Complainant's Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 34), granting a motion of complainant United States Steel Corporation to amend the Complaint and Notice of Investigation to correct the name of respondent “Shougang Group” to “Shougang Corporation.”

FOR FURTHER INFORMATION CONTACT: Megan M Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on June 2, 2016, based on a complaint filed by United States Steel Corporation of Pittsburgh, Pennsylvania (“U.S. Steel”), alleging a violation of section 337 of the Tariff Act of 1930, as amended, 19 U.S.C. 1337. 81 FR 35381 (June 2, 2016). The notice of investigation named numerous respondents, including Shougang Group and China Shougang International Trade & Engineering Corporation (“Shougang Trade”) both of Beijing, China. Id. at 35382. The Office of Unfair Import Investigations (“OUII”) was also named as a party. Id. The alleged violation of section 337 is based upon the importation into the United States, or in the sale of certain carbon and alloy steel products by reason of: (1) a conspiracy to fix prices and control output and export volumes, the threat or effect of which is to restrain or monopolize trade and commerce in the United States; (2) misappropriation and use of trade secrets, the threat or effect of which is to destroy or substantially injure an industry in the United States; or (3) false designation of origin or manufacturer, the threat or effect of which is to destroy or substantially injure an industry in the United States. Id. at 35381.

On August 31, 2016, U.S. Steel filed a motion for leave to amend the Complaint and Notice of Investigation to correct the name of respondent “Shougang Group” to “Shougang Corporation.” On September 12, 2016, respondent Shougang Trade responded to the motion, identifying an apparent error in the proposed amended Complaint but stating that it does not oppose the motion. No other responses were received.

On September 19, 2016, the ALJ issued the subject ID, granting U.S. Steel's motion pursuant to Commission rule 210.14(b)(1) (19 CFR 210.14(b)(1)). The ID notes that on June 30, 2016, following institution of the investigation, Shougang Trade filed a response to the Complaint, stating that “Shougang Group” is not a legal entity. Shougang Trade also asserted that it is a wholly owned subsidiary of Shougang Corporation. U.S. Steel noted in its motion that the address for Shougang Corporation is the same address that was identified in the Complaint for “Shougang Group.” The ALJ found there is good cause to amend the pleadings to correct the name of a misidentified respondent. The ALJ also found that there is no prejudice in identifying Shougang Corporation at this stage of the investigation because Shougang Trade, its wholly owned subsidiary, was properly served the Complaint and Notice of Investigation and has entered an appearance.

No petitions for review were filed and the Commission has determined not to review the subject ID.

The authority for the Commission's determination is contained in section 337 of the Tariff Act of 1930, as amended (19 U.S.C. 1337), and in part 210 of the Commission's Rules of Practice and Procedure (19 CFR part 210).

By order of the Commission.
Issued: October 19, 2016.
Lisa R. Barton,
Secretary to the Commission.

[FR Doc. 2016-25716 Filed 10-24-16; 8:45 am]

BILLING CODE 7020-02-P